DEPARTMENT OF HOMELAND SECURITY

Coast Guard

33 CFR Parts 100 and 165

[Docket No. USCG-2011-1023]

RIN 1625-AA08; AA00

Special Local Regulations and Safety Zones; Recurring Events in Northern New England

AGENCY: Coast Guard, DHS.

ACTION: Final rule.

SUMMARY: The Coast Guard is updating special local regulations and permanent safety zones in the Coast Guard Captain of the Port (COTP) Northern New England Zone for annual recurring marine events. When these special local regulations or safety zones are activated, and subject to enforcement, this rule will restrict vessels from portions of water areas during these annual recurring events. The revised special local regulations and safety zones will expedite public notification of events, and ensure the protection of the maritime public and event participants from the hazards associated with these annual recurring events.

DATES: This rule is effective May 21, 2012.

This rule will be enforced during dates and times specified in the Tables to §§ 100.120 and 165.171.

ADDRESSES: Comments and material received from the public, as well as documents mentioned in this preamble as being available in the docket, are part of docket USCG-2011-1023 and are available online by going to http://www.regulations.gov, inserting USCG-2011-1023 in the “Keyword” box, and then clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Lieutenant Junior Grade Terence Leahy, Waterways Management Division at Coast Guard Sector Northern New England, telephone 207-767-0398, email Terence.O.Leahy@uscg.mil. If you have questions on viewing the docket, call Renee V. Wright, Program Manager, Docket Operations, telephone 202-366-9826.

SUPPLEMENTARY INFORMATION:

Regulatory Information

On Tuesday, December 27, 2011, the Coast Guard published a notice of proposed rulemaking (NPRM) entitled “Special Local Regulations and Safety Zones; Recurring Events in Northern New England” in the Federal Register (Vol. 76 No. 248). We received no comments or requests for a public meeting on the proposed rule.

Basis and Purpose

The legal basis for this rule is the Port and Waterways Safety Act, 33 U.S.C. 1226 and 1231, 33 U.S.C. 1233; 46 U.S.C. Chapter 701, 3306, 3703; 50 U.S.C. 191, 195; 33 CFR 1.05-1, and 160.5; Public Law 107-295, 116 Stat. 2064; and Department of Homeland Security Delegation No. 0170.1, which collectively authorize the Coast Guard to define regulatory safety zones and special local regulations.

Swim events, fireworks displays, and marine events are held on an annual recurring basis on the navigable waters within the Coast Guard COTP Northern New England Zone. In the past, the Coast Guard has established special local regulations, regulated areas and safety zones for these annual recurring events on a case by case basis to ensure the protection of the maritime public and event participants from the hazards associated with these events. The Coast Guard has not received public comments or concerns regarding the impact to waterway traffic from these annually recurring events.

This rule consistently apprises the public in a timely manner through permanent publication in Title 33 of the Code of Federal Regulations. The Tables in this regulation list each annual recurring event requiring a regulated area as administered by the Coast Guard.

By establishing a permanent regulation containing these events, the Coast Guard eliminates the need to establish temporary rules for events that occur on an annual basis thereby, limiting the costs associated with cumulative regulations.

This rulemaking will remove, add, and consolidate regulations that better meet the Coast Guard's intended purpose of ensuring safety during these events.

Background

The Coast Guard is amending 33 CFR 100.120 (Special Local Regulations) and 33 CFR 165.171 (Safety Zones).

The rule applies to the annual recurring events listed in the attached Tables in the Coast Guard COTP Northern New England Zone. The Tables provide the event name, sponsor, and type, as well as approximate dates and locations of the events. The specific times, dates, regulated areas, and enforcement period for each event will be provided through the Local Notice to Mariners, Broadcast Notice to Mariners or through a Notice of Enforcement published in the Federal Register.

The particular size of the safety zones established for each event will be reevaluated on an annual basis in accordance with Navigational and Vessel Inspection Circular (NVIC) 07-02, Marine Safety at Firework Displays, the National Fire Protection Association Standard 1123, Code for Fireworks Displays (100-foot distance per inch of diameter of the fireworks mortars), and other pertinent regulations and publications.

This regulation prevents vessels from transiting areas specifically designated as special local regulations or safety zones during the periods of enforcement to ensure the protection of the maritime public and event participants from the hazards associated with the listed annual recurring events. Only event sponsors, designated participants, and official patrol vessels are allowed to enter regulated areas. Spectators and other vessels not registered as event participants may not enter the regulated areas without the permission of the COTP or the designated representative.

Discussion of Comments

The Coast Guard did not receive any comments in response to the NPRM published in the Federal Register (Vol. 76, No. 248) on Tuesday, December 27, 2011. The Coast Guard made changes to the regulatory text in the final rule with regards to the date section for each event. This change was made so as not to give the impression that the Coast Guard is requiring mariners to check a Local Notice of Mariners for the date of each event. The Coast Guard will now publish a Notice of Enforcement of the event date in the Federal Register to inform the public of the exact date.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

We expect the economic impact of this rule to be minimal. Although this regulation may have some impact on the public, the potential impact will be minimized for the following reasons: The Coast Guard has previously promulgated safety zones or special local regulations in accordance with 33 CFR Parts 100 and 165 for approximately 85% of the event areas contained within this regulation and has not received notice of any negative impact caused by any of the safety zones or special local regulations. By establishing a permanent regulation containing all of these events, the Coast Guard will eliminate the need to establish individual temporary rules for each separate event that occurs on an annual basis, thereby limiting the cost of cumulative regulations.

Vessels will only be restricted from safety zones and special local regulation areas for a short duration of time. Vessels may transit in portions of the affected waterway except for those areas covered by the regulated areas. Notifications will also be made to the local maritime community through the Local Notice to Mariners and Broadcast Notice to Mariners well in advance of the events. If the event does not have a date listed, then the exact dates and times of the enforcement period will be announced through a Notice of Enforcement in the Federal Register. No new or additional restrictions will be imposed on vessel traffic.

Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which might be small entities: Owners or operators of vessels intending to transit, fish, or anchor in the areas where the listed annual recurring events are being held.

The rule will not have a significant economic impact on a substantial number of small entities for the following reasons: Vessels will only be restricted from safety zones and special local regulation areas for a short duration of time; vessels may transit in portions of the affected waterway except for those areas covered by the regulated areas; the Coast Guard has promulgated safety zones or special local regulations in accordance with 33 CFR Parts 100 and 165 for approximately 85% of the event areas in the past and has not received notice of any negative impact caused by any of the safety zones or special local regulations; and notifications will be made to the local maritime community through the Local Notice to Mariners and Broadcast Notice to Mariners well in advance of the events. If the event does not have a date listed, then exact dates and times of the enforcement period will be announced through a Notice of Enforcement in the Federal Register. No new or additional restrictions will be imposed on vessel traffic.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this rule so that they can better evaluate its effects on them and participate in the rulemaking. If the rule affects your small business, organization, or governmental jurisdiction and you have questions concerning its provisions or options for compliance, please contact the person listed under FOR FURTHER INFORMATION CONTACT. The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on the States, on the relationship between the national government and the States, or on the distribution of power and responsibilities among the various levels of government. We have analyzed this rule under that Order and determined that this rule does not have implications for federalism.

Protest Activities

The Coast Guard respects the First Amendment rights of protesters. Protesters are asked to contact the person listed in the FOR FURTHER INFORMATION CONTACT section to coordinate protest activities so that your message can be received without jeopardizing the safety or security of people, places or vessels.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

This action is not a “significant energy action” under Executive Order 13211, Actions Concerning Regulations That Significantly Affect Energy Supply, Distribution, or Use.

Technical Standards

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraphs (34)(g) and (34)(h) of the Instruction since it involves establishment of safety zones for marine related fireworks events and special local regulations for regattas, respectively. An environmental analysis checklist and a categorical exclusion determination are available in the docket where indicated under ADDRESSES.

List of Subjects

33 CFR Part 100

Marine safety, Navigation (water), Reporting and recordkeeping requirements, Waterways.

33 CFR Part 165

Harbors, Marine safety, Navigation (water), Reporting and recordkeeping requirements, Security measures, and Waterways.

For the reasons discussed in the preamble, the Coast Guard amends 33 CFR Parts 100 and 165 as follows:

PART 100—SAFETY OF LIFE ON NAVIGABLE WATERS

1. The authority citation for Part 100 reads as follows:

Authority: 33 U.S.C. 1233.

2. Revise § 100.120 to read as follows:

§ 100.120 Special Local Regulations; Marine Events Held in the Coast Guard Sector Northern New England Captain of the Port Zone.

The following regulations apply to the marine events listed in the Table to § 100.120. These regulations will be enforced for the duration of each event, on the dates indicated. Mariners should consult their Local Notice to Mariners to remain apprised of the specific calendar date upon which the listed event falls for each calendar year and other specific information concerning the event. First Coast Guard District Local Notice to Mariners can be found at: http://www.navcen.uscg.gov/. The Sector Northern New England Marine Events schedule can also be viewed electronically at www.homeport.uscg.mil.

Note to introductory text of § 100.20: Although listed in the Code of Federal Regulations, sponsors of events listed in the Table to § 100.120 are still required to submit marine event applications in accordance with 33 CFR 100.15.

(a) The Coast Guard may patrol each event area under the direction of a designated Coast Guard Patrol Commander. The Patrol Commander may be contacted on Channel 16 VHF-FM (156.8 MHz) by the call sign “PATCOM.” Official patrol vessels may consist of any Coast Guard, Coast Guard Auxiliary, state, or local law enforcement vessels assigned or approved by the Captain of the Port, Sector Northern New England.

(b) Vessels may not transit the regulated areas without the Patrol Commander approval. Vessels permitted to transit must operate at a no wake speed, in a manner which will not endanger participants or other crafts in the event.

(c) Spectators or other vessels shall not anchor, block, loiter, or impede the transit of event participants or official patrol vessels in the regulated areas during the effective dates and times, unless authorized by an official patrol vessel.

(d) The Patrol Commander may control the movement of all vessels in the regulated area. When hailed or signaled by an official patrol vessel, a vessel shall come to an immediate stop and comply with the lawful directions issued. Failure to comply with a lawful direction may result in expulsion from the area, citation for failure to comply, or both.

(e) The Patrol Commander may delay or terminate any marine event in this subpart at any time it is deemed necessary to ensure the safety of life or property.

(f) For all power boat races listed, vessels operating within the regulated area must be at anchor within a designated spectator area or moored to a waterfront facility in a way that will not interfere with the progress of the event.

(g) For all regattas and boat parades listed, spectator vessels operating within the regulated area shall maintain a separation of at least 50 yards from the participants.

(h) For all rowing and paddling boat races listed, vessels not associated with the event shall maintain a separation of at least 50 yards from the participants.

(i) The specific calendar date upon which the listed event falls will be published in the Federal Register.

Table to § 100.120
5.0 | MAY
5.1 Champlain Bridge Celebration Flotilla Parade | • Event Type: Regatta and Boat Parade.
| • Sponsor: Lake Champlain Maritime Museum.
| • Date: A two day event on Saturday and Sunday during the third weekend in May. The specific calendar dates will be published in the Federal Register via a Notice of Enforcement.
| • Time: 12 p.m. to 2 p.m. each day.
| • Location: The regulated area includes all waters of Lake Champlain in the vicinity of the new bridge between Crown Point, New York and Chimney Point, Vermont within the following points (NAD 83):
| 44°02′29″ N, 073°26′26″ W.
| 44°02′38″ N, 073°25′58″ W.
| 44°01′18″ N, 073°24′08″ W.
| 44°01′04″ N, 073°24′31″ W.
5.2 Tall Ships Visiting Portsmouth | • Event Type: Regatta and Boat Parade.
| • Sponsor: Portsmouth Maritime Commission, Inc.
| • Date: A four day event from Friday through Monday during the last weekend in May. The specific calendar dates will be published in the Federal Register via a Notice of Enforcement.
| • Time: 9 a.m. to 8 p.m. each day.
| • Location: The regulated area includes all waters of Portsmouth Harbor, New Hampshire in the vicinity of Castle Island within the following points (NAD 83):
| 43°03′11″ N, 070°42′26″ W.
| 43°03′18″ N, 070°41′51″ W.
| 43°04′42″ N, 070°42′11″ W.
| 43°04′28″ N, 070°44′12″ W.
| 43°05′36″ N, 070°45′56″ W.
| 43°05′29″ N, 070°46′09″ W.
| 43°04′19″ N, 070°44′16″ W.
| 43°04′22″ N, 070°42′33″ W.
6.0 | JUNE
6.1 Bar Harbor Blessing of the Fleet | • Event Type: Regatta and Boat Parade.
| • Sponsor: Town of Bar Harbor, Maine.
| • Date: A one day event on Sunday during the first weekend of June. The specific calendar date will be published in the Federal Register via a Notice of Enforcement.
| • Time: 12 p.m. to 1 p.m.
| • Location: The regulated area includes all waters of Bar Harbor, Maine within the following points (NAD 83):
| 44°23′32″ N, 068°12′19″ W.
| 44°23′30″ N, 068°12′00″ W.
| 44°23′37″ N, 068°12′00″ W.
| 44°23′35″ N, 068°12′19″ W.
6.2 Charlie Begin Memorial Lobster Boat Races | • Event Type: Power Boat Race.
| • Sponsor: Boothbay Harbor Lobster Boat Race Committee.
| • Date: A one day event on Saturday during the third weekend of June. The specific calendar date will be published in the Federal Register via a Notice of Enforcement.
| • Time: 10 a.m. to 3 p.m.
| • Location: The regulated area includes all waters of Boothbay Harbor, Maine in the vicinity of within John's Island the following points (NAD 83):
| 43°50′04″ N, 069°38′37″ W.
| 43°50′54″ N, 069°38′06″ W.
| 43°50′49″ N, 069°37′50″ W.
| 43°50′00″ N, 069°38′20″ W.
6.3 Rockland Harbor Lobster Boat Races | • Event Type: Power Boat Race.
| • Sponsor: Rockland Harbor Lobster Boat Race Committee.
| • Date: A one day event on Sunday during the third weekend of June. The specific calendar date will be published in the Federal Register via a Notice of Enforcement.
| • Time: 9 a.m. to 5 p.m.
| • Location: The regulated area includes all waters of Rockland Harbor, Maine in the vicinity of the Rockland Breakwater Light within the following points (NAD 83):
| 44°05′59″ N, 069°04′53″ W.
| 44°06′43″ N, 069°05′25″ W.
| 44°06′50″ N, 069°05′05″ W.
| 44°06′05″ N, 069°04′34″ W.
6.4 Windjammer Days Parade of Ships | • Event Type: Tall Ship Parade.
| • Sponsor: Boothbay Region Chamber of Commerce.
| • Date: A one day event on Wednesday during the last week of June. The specific calendar date will be published in the Federal Register via a Notice of Enforcement.
| • Time: 12 p.m. to 5 p.m.
| • Location: The regulated area includes all waters of Boothbay Harbor, Maine in the vicinity of Tumbler's Island within the following points (NAD 83):
| 43°51′02″ N, 069°37′33″ W.
| 43°50′47″ N, 069°37′31″ W.
| 43°50′23″ N, 069°37′57″ W.
| 43°50′01″ N, 069°37′45″ W.
| 43°50′01″ N, 069°38′31″ W.
| 43°50′25″ N, 069°38′25″ W.
| 43°50′49″ N, 069°37′45″ W.
7.0 | JULY
7.1 Moosabec Lobster Boat Races | • Event Type: Power Boat Race.
| • Sponsor: Moosabec Boat Race Committee.
| • Date: A one day event held on July 4th. The specific calendar date will be published in the Federal Register via a Notice of Enforcement.
| • Time: 10 a.m. to 12:30 p.m.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
7.2 The Great Race | • Event Type: Rowing and Paddling Boat Race.
| • Sponsor: Franklin County Chamber of Commerce.
| • Date: A one day event on Sunday during the first week of September. The specific calendar date will be published in the Federal Register via a Notice of Enforcement.
| • Time: 10 a.m. to 12:30 p.m.
| • Location: The regulated area includes all waters of Lake Champlain in the vicinity of Saint Albans Bay within the following points (NAD 83):
| 44°47′18″ N, 073°10′27″ W.
| 44°47′10″ N, 073°08′51″ W.
7.3 Searsport Lobster Boat Races | • Event Type: Power Boat Race.
| • Sponsor: Searsport Lobster Boat Race Committee.
| • Date: A one day event on Saturday during the second week of July. The specific calendar date will be published in the Federal Register via a Notice of Enforcement.
| • Time: 9 a.m. to 4 p.m.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
7.4 Stonington Lobster Boat Races | • Event Type: Power Boat Race.
| • Sponsor: Stonington Lobster Boat Race Committee.
| • Date: A one day event on Saturday during the second week of July. The specific calendar date will be published in the Federal Register via a Notice of Enforcement.
| • Time: 8 a.m. to 3:30 p.m.
| • Location: The regulated area includes all waters of Stonington, Maine within the following points (NAD 83):
| 44°08′55″ N, 068°40′12″ W.
| 44°09′00″ N, 068°40′15″ W.
| 44°09′11″ N, 068°39′42″ W.
| 44°09′07″ N, 068°39′39″ W.
7.5 Mayor's Cup Regatta | • Event Type: Sailboat Parade.
| • Sponsor: Plattsburgh Sunrise Rotary
| • Date: A one day event on Saturday during the second week of July. The specific calendar date will be published in the Federal Register via a Notice of Enforcement.
| • Time: 10 a.m. to 4 p.m.
| • Location: The regulated area includes all waters of Cumberland Bay on Lake Champlain in the vicinity of Plattsburgh, New York within the following points (NAD 83):
| 44°39′26″ N, 073°26′25″ W.
| 44°41′27″ N, 073°23′12″ W.
7.6 The Challenge Race | • Event Type: Rowing and Paddling Boat Race.
| • Sponsor: Lake Champlain Maritime Museum
| • Date: A one day event on Saturday during the third week of July. The specific calendar date will be published in the Federal Register via a Notice of Enforcement.
| • Time: 11 a.m. to 3 p.m.
| • Location: The regulated area includes all waters of Lake Champlain in the vicinity of Button Bay State Park within the following points (NAD 83):
| 44°12′25″ N, 073°22′32″ W.
| 44°12′00″ N, 073°21′42″ W.
| 44°12′19″ N, 073°21′25″ W.
| 44°13′16″ N, 073°21′36″ W.
7.7 Friendship Lobster Boat Races | • Event Type: Power Boat Race.
| • Sponsor: Friendship Lobster Boat Race Committee.
| • Date: A one day event on Saturday during the last week of July. The specific calendar date will be published in the Federal Register via a Notice of Enforcement.
| • Time: 9:30 a.m. to 3 p.m.
| • Location: The regulated area includes all waters of Friendship Harbor, Maine within the following points (NAD 83):
| 43°57′51″ N, 069°20′46″ W.
| 43°58′14″ N, 069°19′53″ W.
| 43°58′19″ N, 069°20′01″ W.
| 43°58′00″ N, 069°20′46″ W.
7.8 Arthur Martin Memorial Regatta | • Event Type: Rowing and Paddling Boat Race.
| • Sponsor: I Row.
| • Date: A one day event on Saturday during the third week of July. The specific calendar date will be published in the Federal Register via a Notice of Enforcement.
| • Time: 9 a.m. to 1 p.m.
| • Location: The regulated area includes all waters of the Piscataqua River, in the vicinity of Kittery Point, Maine within the following points (NAD 83):
| 43°03′51″ N, 070°41′55″ W.
| 43°04′35″ N, 070°42′18″ W.
| 43°04′42″ N, 070°43′15″ W.
| 43°05′14″ N, 070°43′12″ W.
| 43°05′14″ N, 070°43′06″ W.
| 43°04′44″ N, 070°43′11″ W.
| 43°04′35″ N, 070°42′13″ W.
| 43°03′53″ N, 070°41′40″ W.
7.9 Harpswell Lobster Boat Races | • Event Type: Power Boat Race.
| • Sponsor: Harpswell Lobster Boat Race Committee.
| • Date: A one day event on Sunday during the last week of July. The specific calendar date will be published in the Federal Register via a Notice of Enforcement.
| • Time: 10 a.m. to 3 p.m.
| • Location: The regulated area includes all waters of Potts Harbor, Maine within the following points (NAD 83):
| 43°46′50″ N, 070°01′37″ W.
| 43°46′50″ N, 070°01′18″ W.
| 43°46′28″ N, 070°01′36″ W.
| 43°46′28″ N, 070°01′19″ W.
8.0 | AUGUST
8.1 Eggemoggin Reach Regatta | • Event Type: Wooden Boat Parade.
| • Sponsor: Rockport Marine, Inc. and Brookline Boat Yard.
| • Date: A one day event on Saturday during the first week of August. The specific calendar date will be published in the Federal Register via a Notice of Enforcement.
| • Time: 11 a.m. to 7 p.m.
| • Location: The regulated area includes all waters of Eggemoggin Reach and Jericho Bay in the vicinity of Naskeag Harbor, Maine within the following points (NAD 83):
| 44°15′16″ N, 068°36′26″ W.
| 44°12′41″ N, 068°29′26″ W.
| 44°07′38″ N, 068°31′30″ W.
| 44°12′54″ N, 068°33′46″ W.
8.2 Southport Rowgatta Rowing and Paddling Boat Race | • Event Type: Rowing and Paddling Boat Race.
| • Sponsor: Boothbay Region YMCA.
| • Date: A one day event on Saturday during the second week of August. The specific calendar date will be published in the Federal Register via a Notice of Enforcement.
| • Time: 8 a.m. to 3 p.m.
| • Location: The regulated area includes all waters of Sheepscot Bay and Boothbay, on the shore side of Southport Island, Maine within the following points (NAD 83):
| 43°50′26″ N, 069°39′10″ W.
| 43°49′10″ N, 069°38′35″ W.
| 43°46′53″ N, 069°39′06″ W.
| 43°46′50″ N, 069°39′32″ W.
| 43°49′07″ N, 069°41′43″ W.
| 43°50′19″ N, 069°41′14″ W.
| 43°51′11″ N, 069°40′06″ W.
8.3 Winter Harbor Lobster Boat Races | • Event Type: Power Boat Race.
| • Sponsor: Winter Harbor Chamber of Commerce.
| • Date: A one day event on Saturday during the second week of August. The specific calendar date will be published in the Federal Register via a Notice of Enforcement.
| • Time: 9 a.m. to 3 p.m.
| • Location: The regulated area includes all waters of Winter Harbor, Maine within the following points (NAD 83):
| 44°22′06″ N, 068°05′13″ W.
| 44°23′06″ N, 068°05′08″ W.
| 44°23′04″ N, 068°04′37″ W.
| 44°22′05″ N, 068°04′44″ W.
8.4 Lake Champlain Dragon Boat Festival | • Event Type: Rowing and Paddling Boat Race.
| • Sponsor: Dragonheart Vermont.
| • Date: A one day event on Sunday during the second week of August. The specific calendar date will be published in the Federal Register via a Notice of Enforcement.
| • Time: 7 a.m. to 5 p.m.
| • Location: The regulated area includes all waters of Burlington Bay within the following points (NAD 83):
| 44°28′51″ N, 073°13′28″ W.
| 44°28′40″ N, 073°13′40″ W.
| 44°28′37″ N, 073°13′29″ W.
| 44°28′40″ N, 073°13′17″ W.
8.5 Merritt Brackett Lobster Boat Races | • Event Type: Power Boat Race.
| • Sponsor: Town of Bristol, Maine.
| • Date: A one day event on Sunday during the second week of August. The specific calendar date will be published in the Federal Register via a Notice of Enforcements.
| • Time: 10 a.m. to 3 p.m.
| • Location: The regulated area includes all waters of Pemaquid Harbor, Maine within the following points (NAD 83):
| 43°52′16″ N, 069°32′10″ W.
| 43°52′41″ N, 069°31′43″ W.
| 43°52′35″ N, 069°31′29″ W.
| 43°52′09″ N, 069°31′56″ W.
8.6 Multiple Sclerosis Regatta | • Event Type: Regatta and Sailboat Race.
| • Sponsor: Maine Chapter, Multiple Sclerosis Society.
| • Date: A one day event on Saturday during the third week of August. The specific calendar date will be published in the Federal Register via a Notice of Enforcement.
| • Time: 10 a.m. to 4 p.m.
| • Location: The regulated area for the start of the race includes all waters of Casco Bay, Maine in the vicinity of Peaks Island within the following points (NAD 83):
| 43°40′24″ N, 070°14′20″ W.
| 43°40′36″ N, 070°13′56″ W.
| 43°39′58″ N, 070°13′21″ W.
| 43°39′46″ N, 070°13′51″ W.
8.7 Multiple Sclerosis Harborfest Tugboat Race | • Event Type: Power Boat Race.
| • Sponsor: Maine Chapter, National Multiple Sclerosis Society.
| • Date: A one day event on Sunday during the third week of August. The specific calendar date will be published in the Federal Register via a Notice of Enforcement.
| • Time: 10 a.m. to 3 p.m.
| • Location: The regulated area includes all waters of Portland Harbor, Maine in the vicinity of Maine State Pier within the following points (NAD 83):
| 43°40′25″ N, 070°14′21″ W.
| 43°40′36″ N, 070°13′56″ W.
| 43°39′58″ N, 070°13′21″ W.
| 43°39′47″ N, 070°13′51″ W.
9.0 | SEPTEMBER
9.1 Pirates Festival Lobster Boat Races | • Event Type: Power Boat Race.
| • Sponsor: Eastport Pirates Festival.
| • Date: A one day event on Sunday during the second weekend of September. The specific calendar date will be published in the Federal Register via a Notice of Enforcement.
| • Time: 11 a.m. to 6 p.m.
| • Location: The regulated area includes all waters in the vicinity of Eastport Harbor, Maine within the following points (NAD 83):
| 44°54′14″ N, 066°58′52″ W.
| 44°54′14″ N, 068°58′56″ W.
| 44°54′24″ N, 066°58′52″ W.
| 44°54′24″ N, 066°58′56″ W.

PART 165—REGULATED NAVIGATION AREAS AND LIMITED ACCESS AREAS

3. The authority citation for Part 165 reads as follows:

Authority: 33 U.S.C. 1226, 1231; 46 U.S.C. Chapter 701, 3306, 3703; 33 CFR 1.05-1, and 160.5; Pub. L. 107-295, 116 Stat. 2064; Department of Homeland Security Delegation No. 0170.1.

4. Revise § 165.171 to read as follows:

§ 165.171 Safety Zones for fireworks displays and swim events held in Coast Guard Sector Northern New England Captain of the Port Zone.

The Coast Guard is establishing safety zones for the fireworks displays listed in the Table to § 165.171. These regulations will be enforced for the duration of each event, on or about the dates indicated in the Table to § 165.171. Mariners should consult their Local Notice to Mariners to remain apprised of the specific calendar date upon which the listed event falls for each calendar year and other specific information concerning the event. First Coast Guard District Local Notice to Mariners can be found at: http://www.navcen.uscg.gov/. The Sector Northern New England Marine Events schedule can also be viewed electronically at www.homeport.uscg.mil.

Note to introductory text of § 165.171: Although listed in the Code of Federal Regulations, sponsors of events listed in the Table to § 165.171 shall submit an application each year in accordance with 33 CFR 100.15.

(a) The Coast Guard may patrol each event area under the direction of a designated Coast Guard Patrol Commander. The Patrol Commander may be contacted on Channel 16 VHF-FM (156.8 MHz) by the call sign “PATCOM.” The “official patrol vessels” may consist of any Coast Guard, Coast Guard Auxiliary, state, or local law enforcement vessels assigned or approved by the Captain of the Port, Sector Northern New England.

(b) Vessels may not transit the regulated areas without Patrol Commander approval. Vessels permitted to transit must operate at a no wake speed, in a manner which will not endanger participants or other crafts in the event.

(c) Spectators or other vessels shall not anchor, block, loiter, or impede the movement of event participants or official patrol vessels in the regulated areas during the effective dates and times, or dates and times as modified through the Local Notice to Mariners, unless authorized by an official patrol vessel.

(d) The Patrol Commander may control the movement of all vessels in the regulated area. When hailed or signaled by an official patrol vessel, a vessel shall come to an immediate stop and comply with the lawful directions issued. Failure to comply with a lawful direction may result in expulsion from the area, citation for failure to comply, or both.

(e) The Patrol Commander may delay or terminate any event in this subpart at any time to assure safety. Such action may be justified as a result of weather, traffic density, spectator operation or participant behavior.

(f) For all swim events listed, vessels not associated with the event shall maintain a separation zone of 200 feet from participating swimmers.

(g) For all fireworks displays listed below, the regulated area is that area of navigable waters within a 350 yard radius of the launch platform or launch site for each fireworks display.

(h) The specific calendar date upon which the listed event falls will be published in the Federal Register.

Table to § 165.171
5.0 | MAY
5.1 Hawgs, Pies, & Fireworks | • Event Type: Fireworks Display. • Sponsor: Gardiner Maine Street.
| • Date: One night event on Saturday during the last week of May. The specific calendar date will be published in the Federal Register via a Notice of Enforcement.
| • Time: 8 p.m. to 10 p.m.
| • Location: In the vicinity of the Gardiner Waterfront, Gardiner, Maine in approximate position:
| 44°13′52″ N, 069°46′08″ W (NAD 83).
6.0 | JUNE
6.1 Rotary Waterfront Days Fireworks | • Event Type: Fireworks Display. • Sponsor: Gardiner Rotary.
| • Date: Two night event on Wednesday and Saturday during the third week of June. The specific calendar dates will be published in the Federal Register via a Notice of Enforcement.
| • Time: 8 p.m. to 10 p.m.
| • Location: In the vicinity of the Gardiner Waterfront, Gardiner, Maine in approximate position:
| 44°13′52″ N, 069°46′08″ W (NAD 83).
6.2 Windjammer Days Fireworks | • Event Type: Fireworks Display. • Sponsor: Boothbay Harbor Region Chamber of Commerce.
| • Date: One night event on Wednesday during the last week of June. The specific calendar date will be published in the Federal Register via a Notice of Enforcement.
| • Time: 8 p.m. to 10:30 p.m.
| • Location: In the vicinity of McFarland Island, Boothbay Harbor, Maine in approximate position:
| 43°50′38″ N, 069°37′57″ W (NAD 83).
7.0 | JULY
7.1 Vinalhaven 4th of July Fireworks | • Event Type: Firework Display. • Sponsor: Vinalhaven 4th of July Committee.
| • Date: First Saturday in July. The specific calendar date will be published in the Federal Register via a Notice of Enforcement.
| • Time: 8 p.m. to 10:30 p.m.
| • Location: In the vicinity of Grime's Park, Vinalhaven, Maine in approximate position:
| 44°02′34″ N, 068°50′26″ W (NAD 83).
7.2 Burlington Independence Day Fireworks | • Event Type: Firework Display. • Sponsor: City of Burlington, Vermont.
| • Date: July 3rd. The specific calendar date will be published in the Federal Register via a Notice of Enforcement.
| • Time: 9 p.m. to 11 p.m.
| • Location: From a barge in the vicinity of Burlington Harbor, Burlington, Vermont in approximate position:
| 44°28′31″ N, 073°13′31″ W (NAD 83).
7.3 Camden 3rd of July Fireworks | • Event Type: Fireworks Display. • Sponsor: Camden, Rockport, Lincolnville Chamber of Commerce.
| • Date: July 3rd. The specific calendar date will be published in the Federal Register via a Notice of Enforcement.
| • Time: 8 p.m. to 10 p.m.
| • Location: In the vicinity of Camden Harbor, Maine in approximate position:
| 44°12′32″ N, 069°02′58″ W (NAD 83).
7.4 Bangor 4th of July Fireworks | • Event Type: Fireworks Display. • Sponsor: Bangor 4th of July Fireworks.
| • Date: July 4th. The specific calendar date will be published in the Federal Register via a Notice of Enforcement.
| • Time: 8 p.m. to 10:30 p.m.
| • Location: In the vicinity of the Bangor Waterfront, Bangor, Maine in approximate position:
| 44°47′27″ N, 068°46′31″ W (NAD 83).
7.5 Bar Harbor 4th of July Fireworks | • Event Type: Fireworks Display. • Sponsor: Bar Harbor Chamber of Commerce.
| • Date: July 4th. The specific calendar date will be published in the Federal Register via a Notice of Enforcement.
| • Time: 8 p.m. to 10:30 p.m.
| • Location: In the vicinity of Bar Harbor Town Pier, Bar Harbor, Maine in approximate position:
| 44°23′31″ N, 068°12′15″ W (NAD 83).
7.6 Boothbay Harbor 4th of July Fireworks | • Event Type: Fireworks Display. • Sponsor: Town of Boothbay Harbor.
| • Date: July 4th. The specific calendar date will be published in the Federal Register via a Notice of Enforcement.1 Local Notice to Mariners.
| • Time: 8 p.m. to 10:30 p.m.
| • Location: In the vicinity of McFarland Island, Boothbay Harbor, Maine in approximate position:
| 43°50′38″ N, 069°37′57″ W (NAD 83).
7.7 Colchester 4th of July Fireworks | • Event Type: Fireworks Display. • Sponsor: Town of Colchester, Recreation Department.
| • Date: July 4th. The specific calendar date will be published in the Federal Register via a Notice of Enforcement.
| • Time: 8 p.m. to 10 p.m.
| • Location: In the vicinity of Bayside Beach and Mallets Bay in Colchester, Vermont at approximate position:
| 44°32′44″ N, 073°13′10″ W (NAD 83).
7.8 Eastport 4th of July Fireworks | • Event Type: Fireworks Display. • Sponsor: Eastport 4th of July Committee.
| • Date: July 4th. The specific calendar date will be published in the Federal Register via a Notice of Enforcement.
| • Time: 9 p.m. to 9:30 p.m.
| • Location: From the Waterfront Public Pier in Eastport, Maine at approximate position:
| 44°54′25″ N, 066°58′55″ W (NAD 83).
7.9 Ellis Short Sand Park Trustee Fireworks | • Event Type: Fireworks Display. • Sponsor: William Burnham.
| • Date: July 4th. The specific calendar date will be published in the Federal Register via a Notice of Enforcement.
| • Time: 8:30 p.m. to 11 p.m.
| • Location: In the vicinity of York Beach, Maine in approximate position:
| 43°10′27″ N, 070°48′31″ W (NAD 83).
7.10 Hampton Beach 4th of July Fireworks | • Event Type: Fireworks Display. • Sponsor: Hampton Beach Village District.
| • Date: July 4th. The specific calendar date will be published in the Federal Register via a Notice of Enforcement.
| • Time: 8:30 p.m. to 11 p.m.
| • Location: In the vicinity of Hampton Beach, New Hampshire in approximate position:
| 42°54′40″ N, 070°36′25″ W (NAD 83).
7.11 Jonesport 4th of July Fireworks | • Event Type: Fireworks Display. • Sponsor: Jonesport 4th of July Committee.
| • Date: July 4th. The specific calendar date will be published in the Federal Register via a Notice of Enforcement.
| • Time: 9:30 p.m. to 10 p.m.
| • Location: In the vicinity of Beals Island, Jonesport, Maine in approximate position:
| 44°31′18″ N, 067°36′43″ W (NAD 83)
7.12 Main Street Heritage Days 4th of July Fireworks | • Event Type: Fireworks Display. • Sponsor: Main Street Inc.
| • Date: July 4th. The specific calendar date will be published in the Federal Register via a Notice of Enforcement.
| • Time: 8 p.m. to 10:30 p.m.
| • Location: In the vicinity of Reed and Reed Boat Yard, Woolwich, Maine in approximate position:
| 43°54′56″ N, 069°48′16″ W (NAD 83).
7.13 Portland Harbor 4th of July Fireworks | • Event Type: Fireworks Display. • Sponsor: Department of Parks and Recreation, Portland, Maine.
| • Date: July 4th. The specific calendar date will be published in the Federal Register via a Notice of Enforcement.
| • Time: 8:30 p.m. to 10:30 p.m.
| • Location: In the vicinity of East End Beach, Portland, Maine in approximate position:
| 43°40′16″ N, 070°14′44″ W (NAD 83).
7.14 St. Albans Day Fireworks | • Event Type: Fireworks Display. • Sponsor: St. Albans Area Chamber of Commerce.
| • Date: July 4th. The specific calendar date will be published in the Federal Register via a Notice of Enforcement.
| • Time: 9 p.m. to 10 p.m.
| • Location: From the St. Albans Bay dock in St. Albans Bay, Vermont in the approximate position:
| 44°48′25″ N, 073°08′23″ W (NAD 83).
7.15 Stonington 4th of July Fireworks | • Event Type: Fireworks Display. • Sponsor: Deer Isle—Stonington Chamber of Commerce.
| • Date: July 4th. The specific calendar date will be published in the Federal Register via a Notice of Enforcement.
| • Time: 8 p.m. to 10:30 p.m.
| • Location: In the vicinity of Two Bush Island, Stonington, Maine in approximate position:
| 44°08′57″ N, 068°39′54″ W (NAD 83).
7.16 Urban/EPIC Triathlon | • Event Type: Swim Event. • Sponsor: Tri-Maine Productions.
| • Date: A one day event on Saturday during the second week of July. The specific calendar date will be published in the Federal Register via a Notice of Enforcement.
| • Time: 7 a.m. to 11 a.m.
| • Location: The regulated area includes all waters of Portland Harbor in the vicinity of East End Beach in Portland, Maine within the following points (NAD 83):
| 43°40′00″ N, 070°14′20″ W.
| 43°40′00″ N, 070°14′00″ W.
| 43°40′15″ N, 070°14′29″ W.
| 43°40′17″ N, 070°13′22″ W.
7.17 Tri for a Cure Swim Clinics | • Event Type: Swim Event. • Sponsor: Maine Cancer Foundation.
| • Date: A two day event held on third Sunday and Thursday in July. The specific calendar dates will be published in the Federal Register via a Notice of Enforcement.
| • Time: 12:30 p.m. to 7:30 p.m.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
7.18 Richmond Days Fireworks | • Event Type: Fireworks Display. • Sponsor: Town of Richmond, Maine.
| • Date: A one day event on Saturday during the fourth weekend of July. The specific calendar date will be published in the Federal Register via a Notice of Enforcement.
| • Time: 8 p.m. to 10 p.m.
| • Location: From a barge in the vicinity of the inner harbor, Tenants Harbor, Maine in approximate position:
| 44°08′42″ N, 068°27′06″ W (NAD 83).
7.19 Colchester Triathlon | • Event Type: Swim Event. • Sponsor: Colchester Parks and Recreation Department.
| • Date: A one day event on Wednesday during the last week of July. The specific calendar date will be published in the Federal Register via a Notice of Enforcement.
| • Time: 7 a.m. to 11 a.m.
| • Location: The regulated area includes all waters of Malletts Bay on Lake Champlain, Vermont within the following points (NAD 83):
| 44°32′18″ N, 073°12′35″ W.
| 44°32′28″ N, 073°12′56″ W.
| 44°32′57″ N, 073°12′38″ W.
7.20 Peaks to Portland Swim | • Event Type: Swim Event. • Sponsor: Cumberland County YMCA.
| • Date: A one day event on Saturday during the last week of July. The specific calendar date will be published in the Federal Register via a Notice of Enforcement.
| • Time: 5 a.m. to 1 p.m.
| • Location: The regulated area includes all waters of Portland Harbor between Peaks Island and East End Beach in Portland, Maine within the following points (NAD 83):
| 43°39′20″ N, 070°11′58″ W.
| 43°39′45″ N, 070°13′19″ W.
| 43°40′11″ N, 070°14′13″ W.
| 43°40′08″ N, 070°14′29″ W.
| 43°40′00″ N, 070°14′23″ W.
| 43°39′34″ N, 070°13′31″ W.
| 43°39′13″ N, 070°11′59″ W.
7.21 Friendship Days Fireworks | • Event Type: Fireworks Display. • Sponsor: Town of Friendship.
| • Date: A one day event on Saturday during the last weekend of July. The specific calendar date will be published in the Federal Register via a Notice of Enforcement.
| • Time: 8 p.m. to 10:30 p.m.
| • Location: In the vicinity of the Town Pier, Friendship Harbor, Maine in approximate position:
| 43°58′23″ N, 069°20′12″ W (NAD 83).
7.22 Champ Chum Swim | • Event Type: Swim Event. • Sponsor: Against Malaria Foundation.
| • Date: A one day event on Saturday during the last week of July. The specific calendar date will be published in the Federal Register via a Notice of Enforcement.
| • Time: 8 a.m. to 12 p.m.
| • Location: The regulated area includes all waters of Lake Champlain between Thompson's Point, Vermont and Spilt Rock in Adirondack Park, New York within the following points (NAD 83):
| 44°16′04″ N, 073°18′19″ W.
| 44°16′08″ N, 073°19′17″ W.
8.0 | AUGUST
8.1 Sprucewold Cabbage Island Swim | • Event Type: Swim Event. • Sponsor: Sprucewold Association.
| • Date: A one day event on Saturday during the first week of August. The specific calendar date will be published in the Federal Register via a Notice of Enforcement.
| • Time: 1 p.m. to 6 p.m.
| • Location: The regulated area includes all waters of Linekin Bay between Cabbage Island and Sprucewold Beach in Boothbay Harbor, Maine within the following points (NAD 83):
| 43°50′37″ N, 069°36′23″ W.
| 43°50′37″ N, 069°36′59″ W.
| 43°50′16″ N, 069°36′46″ W.
| 43°50′22″ N, 069°36′21″ W.
8.2 Westerlund's Landing Party Fireworks | • Event Type: Fireworks Display. • Sponsor: Portside Marina.
| • Date: A one day event on Saturday during the first weekend of August. The specific calendar date will be published in the Federal Register via a Notice of Enforcement.
| • Time: 8 p.m. to 10:30 p.m.
| • Location: In the vicinity of Westerlund's Landing in South Gardiner, Maine in approximate position:
| 44°10′19″ N, 069°45′24″ W (NAD 83).
8.3 Y-Tri Triathlon | • Event Type: Swim Event. • Sponsor: Plattsburgh YMCA.
| • Date: A one day event on Saturday during the first week of August. The specific calendar date will be published in the Federal Register via a Notice of Enforcement.
| • Time: 9 a.m. to 10 a.m.
| • Location: The regulated area includes all waters of Treadwell Bay on Lake Champlain in the vicinity of Point Au Roche State Park, Plattsburgh, New York within the following points (NAD 83):
| 44°46′30″ N, 073°23′26″ W.
| 44°46′17″ N, 073°23′26″ W.
| 44°46′17″ N, 073°23′46″ W.
| 44°46′29″ N, 073°23′46″ W.
8.4 Greater Burlington YMCA Lake Swim | • Event Type: Swim Event. • Sponsor: Greater Burlington YMCA.
| • Date: A one day event on Saturday during the second week of August. The specific calendar date will be published in the Federal Register via a Notice of Enforcement.
| • Time: 8 a.m. to 6 p.m.
| • Location: The regulated area includes all waters in Lake Champlain in the vicinity of North Hero Island within the following points (NAD 83):
| 44°46′55″ N, 073°22′14″ W.
| 44°47′08″ N, 073°19′05″ W.
| 44°46′48″ N, 073°17′13″ W.
| 44°46′10″ N, 073°16′39″ W.
| 44°41′08″ N, 073°20′58″ W.
| 44°41′36″ N, 073°23′01″ W.
8.5 York Beach Fire Department Fireworks | • Event Type: Fireworks Display. • Sponsor: York Beach Fire Department.
| • Date: A one day event on Sunday during the first week in August. The specific calendar date will be published in the Federal Register via a Notice of Enforcement.
| • Time: 8:30 p.m. to 11:30 p.m.
| • Location: In the vicinity of Short Sand Cove in York, Maine in approximate position:
| 43°10′27″ N, 070°36′25″ W (NAD 83).
8.6 Tri for a Cure Swim Clinics | • Event Type: Swim Event. • Sponsor: Maine Cancer Foundation.
| • Date: A multi-day training event held during July. The specific calendar dates will be published in the Federal Register via a Notice of Enforcement.
| • Time: 8:30 a.m. to 11:30 a.m.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
8.7 Tri for a Cure Triathlon | • Event Type: Swim Event. • Sponsor: Maine Cancer Foundation.
| • Date: A one day event on Sunday during the second week in August. The specific calendar date will be published in the Federal Register via a Notice of Enforcement.
| • Time: 12:30 p.m. to 4:30 p.m.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
8.8 Rockland Breakwater Swim | • Event Type: Swim Event. • Sponsor: Pen-Bay Masters.
| • Date: A one day event on Saturday during the fourth week of August. The specific calendar date will be published in the Federal Register via a Notice of Enforcement.
| • Time: 7:30 a.m. to 1:30 p.m.
| • Location: The regulated area includes all waters of Rockland Harbor, Maine in the vicinity of Jameson Point within the following points (NAD 83):
| 44°06′16″ N, 069°04′39″ W.
| 44°06′13″ N, 069°04′36″ W.
| 44°06′12″ N, 069°04′43″ W.
| 44°06′17″ N, 069°04′44″ W.
| 44°06′18″ N, 069°04′40″ W.
9.0 | SEPTEMBER
9.1 Windjammer Weekend Fireworks | • Event Type: Fireworks Display. • Sponsor: Town of Camden, Maine.
| • Date: A one day event on Friday during the first weekend of September. The specific calendar date will be published in the Federal Register via a Notice of Enforcement.
| • Time: 8 p.m. to 9:30 p.m.
| • Location: From a barge in the vicinity of Northeast Point, Camden Harbor, Maine in approximate position:
| 44°12′10″ N, 069°03′11″ W (NAD 83).
9.2 Eastport Pirate Festival Fireworks | • Event Type: Fireworks Display. • Sponsor: Eastport Pirate Festival.
| • Date: A one day event on Saturday during the second weekend of September. The specific calendar date will be published in the Federal Register via a Notice of Enforcement.
| • Time: 7 p.m. to 10 p.m.
| • Location: From the Waterfront Public Pier in Eastport, Maine at approximate position:
| 44°54′17″ N, 066°58′58″ W (NAD 83).
9.3 The Lobsterman Triathlon | • Event Type: Swim Event. • Sponsor: Tri-Maine Productions.
| • Date: A one day swim event on Saturday during the second weekend of September. The specific calendar date will be published in the Federal Register via a Notice of Enforcement.
| • Time: 8 a.m. to 11 a.m.
| • Location: The regulated area includes all waters in the vicinity of Winslow Park in South Freeport, Maine within the following points (NAD 83):
| 43°47′59″ N, 070°06′56″ W.
| 43°47′44″ N, 070°06′56″ W.
| 43°47′44″ N, 070°07′27″ W.
| 43°47′57″ N, 070°07′27″ W.
9.4 Burlington Triathlon | • Event Type: Swim Event. • Sponsor: Race Vermont.
| • Date: A one day swim event on Sunday during the second weekend of September. The specific calendar date will be published in the Federal Register via a Notice of Enforcement.
| • Time: 7 a.m. to 10 a.m.
| • Location: The regulated area includes all waters in the vicinity of North Beach, Burlington, Vermont within the following points (NAD 83):
| 44°29′31″ N, 073°14′22″ W.
| 44°29′12″ N, 073°14′14″ W.
| 44°29′17″ N, 073°14′34″ W.
9.5 Eliot Festival Day Fireworks | • Event Type: Fireworks Display. • Sponsor: Eliot Festival Day Committee.
| • Date: A one day event on Saturday during the fourth weekend of September. The specific calendar date will be published in the Federal Register via a Notice of Enforcement.
| • Time: 8 p.m. to 10:30 p.m.
| • Location: In the vicinity of Eliot Town Boat Launch, Eliot, Maine in approximate position:
| 43°08′56″ N, 070°49′52″ W (NAD 83).

Dated: March 30, 2012.
C.L. Roberge,
Captain, U.S. Coast Guard, Captain of the Port Sector Northern New England.

[FR Doc. 2012-9519 Filed 4-19-12; 8:45 am]

BILLING CODE 9110-04-P